DEPARTMENT OF COMMERCE

National Oceanic and Atmospheric Administration

50 CFR Part 679

[Docket No. 000627195-0195-01; I.D. 060500C]

RIN: 0648-AN94

Fisheries of the Exclusive Economic Zone Off Alaska; Seasonal Adjustment of Closure Areas to Trawl Gear in the Central Regulatory Area of the Gulf of Alaska

AGENCY: National Marine Fisheries Service (NMFS), National Oceanic and Atmospheric Administration (NOAA), Commerce.

ACTION: Proposed rule; request for comments.

SUMMARY: NMFS proposes a regulatory amendment to implement a seasonal closure of a portion of the Central Regulatory Area of the Gulf of Alaska (GOA) to vessels using trawl gear. Regulatory authority also is proposed for inseason action to open directed fishing for pollock within 10 nautical miles (nm) of the Steller sea lion haulouts located at Gull Point and Cape Barnabas for research purposes. These actions are necessary to support NMFS-sponsored research on the effect of fishing on localized pollock distribution and abundance. The proposed regulatory amendment is intended to meet the objectives in the Magnuson-Stevens Fishery Conservation and Management Act (Magnuson-Stevens Act) and further the goals and objectives of the Fishery Management Plan for Groundfish of the Gulf of Alaska (FMP).

DATES: Comments on the proposed rule must be received by July 18, 2000.

ADDRESSES: Comments may be mailed to Sue Salveson, Assistant Regional Administrator, Sustainable Fisheries Division, Alaska Region, NMFS, P.O. Box 21668, Juneau, AK 99802-1668, Attn: Lori Gravel. Hand delivery or courier delivery of comments may be sent to the Federal Building, 709 West 9th St., Room 453, Juneau, AK 99801. Comments will not be accepted if submitted via e-mail or Internet. Copies of the Environmental Assessment/Regulatory Impact Review/Initial Regulatory Flexibility Analysis (EA/RIR/IRFA) prepared for this action are available from NMFS at the listed address, or by calling the Alaska Region, NMFS, at (907) 586-7228.

FOR FURTHER INFORMATION CONTACT: Thomas Pearson, (907) 481-1780, fax (907) 481-1781, or tom.pearson@noaa.gov.

SUPPLEMENTARY INFORMATION: NMFS manages the domestic groundfish fisheries of the GOA under the FMP. The North Pacific Fishery Management Council (Council) prepared the FMP under the Magnuson-Stevens Act. Regulations governing the groundfish fisheries of the GOA appear at 50 CFR parts 600 and 679.

This proposed regulatory action would impose a ban on all trawl fishing in the Chiniak Gully region on the east side of Kodiak Island and authorize a temporary reopening of the 10-nm zones around Gull Point and Cape Barnabas to directed fishing for pollock. These fishing restrictions would be in effect annually during the period of August 1st to no later than September 20 in the years 2000-2003. These restrictions are necessary to support NMFS research designed to identify and quantify the effects of commercial fishing on the availability of pollock to foraging Steller sea lions within a finite area. This research is intended to help assess the effectiveness and efficiency of alternative management methods for ensuring that pollock fisheries off Alaska neither jeopardize the continued existence of the western population of endangered Steller sea lions nor adversely modify its critical habitat. Currently the information available to evaluate alternative methods for protecting Steller sea lions and their habitat is very limited, which could result in the use of less effective and less efficient management measures. NMFS is proposing a controlled experiment off Kodiak Island in order to improve the information that can be used to assess further management actions to protect Steller sea lions and their habitat.

The proposed research is designed to provide information bearing on the following issues: (1) Whether measurable changes exist in the distribution and abundance of pollock during the 4-year duration of the study, (2) whether commercial pollock fisheries cause short-term (days to weeks) changes in the pollock school dynamics, and (3) whether pollock fisheries cause reductions in the availability of sea lion forage (i.e., pollock) in localized regions off the east side of Kodiak Island.

NMFS plans to conduct an echo integration trawl (EIT) survey before, during, and after the 'πC' season commercial pollock fishery off the east side of Kodiak Island in the years 2000 to 2003. An EIT survey involves systematic survey vessel track lines over which acoustic and research trawl data are collected and used to generate estimates of abundances and distribution patterns of targeted species. The 'C' season currently opens on August 20 (§ 679.22(d)(3)).

The experimental design proposes a feasibility study in the first year and three full implementation experiments in 2001 to 2003. A feasibility study is necessary because NMFS has not conducted EIT surveys in the GOA during summer months and uncertainty exists whether survey conditions will be suitable for identifying abundance and distribution patterns of pollock. Questions also exist about conducting an EIT survey in a small geographic area during the same time period that commercial fisheries are operating.

The research proposal identifies two treatment (fishing areas) areas at Barnabas Gully and Marmot Canyon where directed fishing for pollock typically occurs. A control site (no fishing) also is proposed in the Chiniak Gully area where trawl fishing will be prohibited in Federal waters. The prohibition on trawling in the control site is necessary to provide a basis for comparing pollock school dynamics in a fished and unfished condition (addressing issue 2 above). These study locations are proposed because they encompass historical fishing areas for pollock that are separated by topographical features with generally discrete concentrations of fish. The concentration of fishing effort in the GOA enables the designation of comparable treatment and control sites, which are essential to the study design.

In 2001 to 2003, the EIT research surveys would be conducted in the same areas as the feasibility survey in 2000, with additional sampling after the fishing season has ended. The consistency in area and season (August to September) will enable researchers to obtain a time series of data and evaluate the effects of interannual variation. The proposed research could provide researchers with better information on pollock movements and impacts of commercial pollock harvest on foraging behavior of Steller sea lions.

A regulatory amendment is required to prohibit trawl fishing in the control site and to allow fishing for pollock in the treatment sites, including within the 10-nm zones surrounding the Cape Barnabas and Gull Island Steller sea lion haulout sites that currently are closed to directed fishing for pollock. To accomplish this objective, the proposed regulatory amendment would implement two measures. First, it would prohibit trawl fishing in the Chiniak Gully area off the east side of Kodiak Island from August 1st to a date no later than September 20th for four years (2000 to 2003). The Chiniak Gully control site is defined by straight lines intersecting the following coordinates in the order given: 152.37° W. long., 57.81° N. lat.; 151.85° W. long., 57.81° N. lat.; 150.64° W. long., 57.22° N. lat.; 151.27° W. long., 56.98° N. lat.; 152.16° W. long., 57.62° N. lat.; and 152.37° W. long., 57.81° N. lat.

The second management measure would authorize inseason action to open directed fishing for pollock within 10 nm of the Steller sea lion haulouts located at Gull Point and Cape Barnabas during the same period of time the Chiniak Gully control site is closed if specified conditions are met. Fishing within 10 nm of these two haulout sites would be authorized as part of the treatment area of Barnabas Gully, unless NMFS' EIT survey conducted as part of its proposed research design prior to the August 20 opening of the pollock C season indicates that the abundance and size distribution of pollock in the Barnabas Gully area are insufficient to support a commercial fishery. If the annual EIT survey fails to locate commercial concentrations of pollock in Barnabas Gully, the treatment area for a year would be moved from Barnabas Gully to Marmot Canyon and the pollock fishing closures within 10 nm surrounding Cape Barnabas and Gull Point would remain effective. These considerations are intended to focus the research area where large concentrations of pollock are present to minimize the potential for localized depletion.

Pursuant to section 7 of the Endangered Species Act (ESA), NMFS completed a biological opinion (B.O.) on December 3, 1998, which was revised December 16, 1998, that evaluated the effects of the Atka mackerel fisheries of the Bering Sea and Aleutian Islands management area (BSAI) and the pollock fisheries of the BSAI and the GOA on candidate and listed species, including the Steller sea lion, and designated critical habitat. The B.O. concluded that the Atka mackerel fisheries were not likely to jeopardize candidate or listed species or adversely modify any designated critical habitat. However, the B.O. concluded that the pollock fisheries were likely to jeopardize the endangered western population of Steller sea lions and adversely modify its critical habitat. On October 15, 1999, NMFS issued revised final reasonable and prudent alternatives (RFRPAs) to avoid the likelihood that the pollock fisheries jeopardize the endangered western population of Steller sea lions and adversely modify its critical habitat. The RFRPAs were implemented by emergency interim rule at the commencement of the 2000 pollock fisheries (65 FR 3892, January 25, 2000). This emergency interim rule was extended through December 31, 2000 (65 FR 36795, June 12, 2000), to continue to implement RFRPAs to protect Steller sea lions and their designated critical habitat. Among other things, the RFRPAs allow the proposed research and directed fishing for pollock to be authorized until permanent rulemaking is implemented.

The RFRPAs establish pollock “no trawl zones” in waters of the GOA around Steller sea lion rookeries and major haulouts out to 10 nm. Three exceptions to these closures were described, including one for the Steller sea lion haulouts at Cape Barnabas and Gull Point, where these sites may be opened for the purpose of conducting research to determine the effects of the pollock fisheries on prey resources in this area.

Species listed under the ESA are present in the action area and some may be negatively affected by the proposed research. Therefore, NMFS has initiated formal consultation under section 7 of the ESA on the proposed action to authorize directed fishing for pollock within 10 nm of the Gull Point and Cape Barnabas haulout areas during the August 20 opening of the pollock “C” season in the GOA. Consultation will need to be concluded prior to agency determination on whether or not to approve the proposed action.

Classification

At this time, NMFS has not determined that the proposed seasonal adjustments of fishery closures this rule would implement are consistent with the national standards of the Magnuson-Stevens Act and other applicable laws. NMFS, in making that determination, will take into account the data, views, and comments received during the comment period.

This proposed rule has been determined to be not significant for purposes of E.O. 12866.

Nothing in this proposed action would result in any changes in reporting or recordkeeping requirements. The analysis for this proposed action did not reveal any existing Federal rules that duplicate, overlap, or conflict with this action.

NMFS prepared an IRFA that describes the impact this proposed rule, if adopted, may have on small entities. Most of the vessels that the proposed rule would apply to are between 80 and 100 feet in length and are small entities under the $3 million gross earnings criterion. This action would apply to all of the approximately 200 groundfish trawl vessels that participate in the Gulf of Alaska groundfish trawl fisheries during the months of August and September. However, only about 10 percent (20 vessels) have fished in the areas subject to the controlled experiment during those months. Most of the vessels that otherwise would trawl for groundfish in the proposed Chiniak Gully area are home ported in and operate out of Kodiak, adjacent to the proposed closure area. Although vessels would be able to harvest elsewhere, they would be expected to incur some additional costs as a result of traveling greater distances to alternative fishing areas. However, these costs are expected to be low and would be short-lived while the benefits of the improved information the controlled experiment is designed to provide could be substantial. NMFS anticipates that the information the experiment would produce would help decrease the risk of not implementing effective measures to protect Steller sea lions, and decrease the cost of providing a given level of protection for the sea lions.

NMFS considered maintaining the status quo, which could have resulted in less severe economic impacts on some small entities. However, this alternative would not allow NMFS to conduct the controlled experiment and obtain information that could be used to assess further management actions to protect Steller sea lions and their habitat. NMFS also considered an alternative that would exempt small entities from the proposed time/area closure. However, such an exemption would undermine the intent of the action to allow a controlled experiment to assess the effects of trawl fishing on the availability of prey for Steller sea lions. The preferred alternative, which this proposed rule would implement, was designed to cause the least economic impact to small entities while still obtaining the necessary information to protect Steller sea lions. Without the information obtained through this proposed action, other management actions that would cause greater economic impacts, such as permanent closure of all critical habitat to protect Steller sea lions, may have to be implemented.

List of Subjects in 50 CFR Part 679

Alaska, Fisheries, Recordkeeping and reporting requirements.

Dated: June 27, 2000.
Andrew A. Rosenberg,
Deputy Assistant Administrator for Fisheries, National Marine Fisheries Service.

For the reasons discussed in the preamble, 50 CFR part 679 is proposed to be amended as follows:

PART 679—FISHERIES OF THE EXCLUSIVE ECONOMIC ZONE OFF ALASKA

1. The authority citation for 50 CFR part 679 continues to read as follows:

Authority: 16 U.S.C. 773 et seq., 1801 et seq., and 3631 et seq.

2. In § 679.22, paragraph (b)(5) is added to read as follows:

§ 679.22 Closures.

* * * * *

(b) * * *

(5) Chiniak Gully Research Area (effective through December 31, 2003)—(i) Description of Chiniak Gully. The Chiniak Gully Research Area is defined as that part of statistical Area 630 bounded by straight lines connecting the coordinates in the order listed:

57.81° N. lat., 152.37° W. long.;

57.81° N. lat., 151.85° W. long.;

57.22° N. lat., 150.64° W. long.;

56.98° N. lat., 151.27° W. long.;

57.62° N. lat., 152.16° W. long.; and hence counterclockwise along the shoreline of Kodiak Island to

57.81° N. lat., 152.37° W. long.

(ii) Closure. (A) The Chiniak Gully Research Area is closed to vessels using trawl gear from August 1 to a date no later than September 20, except that trawl gear may be tested in the manner described at § 679.24(d)(2) in the Kodiak Test Area defined at § 679.24(d)(4)(i) and illustrated in Figure 7 to this part.

(B) Prior to September 20, the Regional Administrator may publish notification in the Federal Register rescinding the trawl closure in the Chiniak Gully Research Area described in paragraph (b)(5)(i) of this part and reinstating closures to directed fishing for pollock within 10 nm of the Steller sea lion haulout sites located at Gull Point and Cape Barnabas if such closures were rescinded under paragraph (b)(5)(iii) of this section.

(iii) Exemption to Steller sea lion critical habitat closures. (A) General. During the C season in Statistical Area 630 of the GOA, defined at § 679.23(d)(3)(iii) of this part, the Regional Administrator may rescind the prohibition on directed fishing for pollock within 10 nm of the Steller sea lion haulout sites at Cape Barnabas and Gull Point on Kodiak Island, which are defined at § 679.22(b)(3)(ii)and Table 13 of this part.

(B) Criteria for exemption. NMFS will conduct an annual echo integration trawl survey of pollock abundance and distribution off the east side of Kodiak Island prior to the start of the pollock C season defined at § 679.23(d)(3)(iii). If survey results indicate that the abundance and size distribution of pollock in the area between the Steller sea lion haulouts at Cape Barnabas and Gull Point, defined at § 679.22(b)(3)(ii) and Table 13 of this part, are sufficient to support a commercial fishery, then NMFS will authorize directed fishing for pollock within 10 nm of these two haulout sites during that C season.

(C) Notification. If the Regional Administrator rescinds the closures to directed fishing for pollock around the Cape Barnabas and Gull Point haulout sites under this paragraph (b)(5)(iii), NMFS will publish notification in the Federal Register announcing this action prior to the start of the pollock C season.

* * * * *

[FR Doc. 00-16770 Filed 6-30-00; 8:45 am]

BILLING CODE 3510-22-F